DEPARTMENT OF AGRICULTURE

Grain Inspection, Packers and Stockyards Administration

Opportunity for Designation in the Sioux City, Iowa, Area; Request for Comments on the Official Agency Servicing This Area

AGENCY: Grain Inspection, Packers and Stockyards Administration, USDA.

ACTION: Notice.

SUMMARY: The designation of the official agency listed below will end on March 31, 2017. We are asking persons or governmental agencies interested in providing official services in the areas presently served by this agency to submit an application for designation. In addition, we are asking for comments on the quality of services provided by the following designated agency: Sioux City Inspection and Weighing Service Company (Sioux City).

DATES: Applications and comments must be received by April 21, 2017.

ADDRESSES: Submit applications and comments concerning this notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Submit Comments Using the Internet: Go to Regulations.gov.

• (http://www.regulations.gov). Instructions for submitting and reading comments are detailed on the site.

• Mail, Courier or Hand Delivery: Jacob Thein, Compliance Officer, USDA, GIPSA, FGIS, QACD, 10383 North Ambassador Drive, Kansas City, MO 64153

• Fax: Jacob Thein, 816-872-1257

• Email: FGIS.QACD@usda.gov.

READ APPLICATIONS AND COMMENTS:

All applications and comments will be available for public inspection at the office above during regular business hours (7 CFR 1.27(c)).

FOR FURTHER INFORMATION CONTACT: Jacob Thein, 816-866-2223 or FGIS.QACD@usda.gov

SUPPLEMENTARY INFORMATION: Section 79(f) of the United States Grain Standards Act (USGSA) authorizes the Secretary to designate a qualified applicant to provide official services in a specified area after determining that the applicant is better able than any other applicant to provide such official services (7 U.S.C. 79 (f)). Under section 79(g) of the USGSA, designations of official agencies are effective for no longer than five years, unless terminated by the Secretary, and may be renewed according to the criteria and procedures prescribed in section 79(f) of the USGSA.

Areas Open for Designation

Sioux City

Pursuant to Section 79(f)(2) of the United States Grain Standards Act, the following geographic area in the States of Iowa, Minnesota, Nebraska, and South Dakota is assigned to this official agency.

In Iowa

Bounded on the north by the northern Iowa State line from the Big Sioux River east to U. S. Route 169; bounded on the east by U.S. Route 169 south to State Route 9; State Route 9 west to U.S. Route 169; U.S. Route 169 south to the northern Humboldt County line; the Humboldt County line east to State Route 17; State Route 17 south to C54; C54 east to U.S. Route 69; U.S. Route 69 south to the northern Hamilton County line; northern Hamilton County line east to Interstate 35; Interstate 35 northeast to C55; C55 east to S41; S41 north to State Route 3; State Route 3 to east U.S. Route 65; U.S. Route 65 north to C25; C25 east to S56; S56 north to C23; C23 east to T47; T47 south to C33; C33 east to T64; T64 north to B60; B60 east to U.S. Route 218; U.S. Route 218 north to Chickasaw County; the western Chickasaw County line; and the western and northern Howard County lines. Bounded on the East by the Eastern Howard and Chickasaw County lines; the eastern and southern Bremer County lines; V49 south to D38; D38 west to State Route 21; State Route 21 south to State Route 8; State Route 8 west to U.S. Route 63; U.S. Route 63 south to Interstate 80; Interstate 80 east to the Poweshiek County line; the eastern Poweshiek, Mahaska, Monroe, and Appanoose County lines; bounded on the south by the southern Appanoose, Wayne, Decatur, Ringgold, and Taylor County lines; bounded on the west by the western Taylor County line; the southern Montgomery County line west to State Route 48; State Route 48 north to M47; M47 north to the Montgomery County line; the northern Montgomery County line; the western Cass and Audubon County Lines; the northern Audubon County line east to U.S. Route 71; U.S. Route 71 north to the southern Sac and Ida County lines; the eastern Monona County line south to State Route 37; State Route 37 west to State Route 175; State Route 175 west to the Missouri River; and bounded on the west by the Missouri River north to the Big Sioux River; the Big Sioux River north to the northern Iowa State line.

In Minnesota

Yellow Medicine, Renville, Lincoln, Lyon, Redwood, Pipestone, Murray, Cottonwood, Rock, Nobles, Jackson, and Martin Counties.

In Nebraska

Cedar, Dakota, Dixon, Pierce (north of U.S. Route 20), and Thurston Counties.

In South Dakota

Bounded on the North by State Route 44 (U.S. 18) east to State Route 11; State Route 11 south to A54B; A54B east to the Big Sioux River; bounded on the east by the Big Sioux River; and bounded on the south and west by the Missouri River. The following grain elevators are part of this geographic area assignment. In D. R. Schaal Agency's area: Maxyield Coop, Algona, Kossuth County; Stateline Coop, Burt, Kossuth County; Gold-Eagle, Goldfield, Wright County; and North Central Coop, Holmes, Wright County, Iowa; Agvantage F.S., Chapin, Franklin County and Five Star Coop, Rockwell, Cerro Gordo County, Iowa.

The following grain elevators are not part of this geographic area assignment and are assigned to: Omaha Grain Inspection Service, Inc.: Scoular Elevator, Elliot, Montgomery County and two Scoular elevators, Griswold, Cass County, Iowa.

Opportunity for Designation

Interested persons or governmental agencies may apply for designation to provide official services in the geographic areas specified above under the provisions of section 79(f) of the USGSA and 7 CFR 800.196. Designation in the specified geographic areas in Iowa, Minnesota, Nebraska, and South Dakota is for the period beginning April 1, 2017, to March 31, 2022. To apply for designation or to request more information, contact Jacob Thein at the address listed above.

Request for Comments

We are publishing this notice to provide interested persons the opportunity to comment on the quality of services provided by the Sioux City official agency. In the designation process, we are particularly interested in receiving comments citing reasons and pertinent data supporting or objecting to the designation of the applicant. Submit all comments to Jacob Thein at the above address or at http://www.regulations.gov.

We consider applications, comments, and other available information when determining which applicants will be designated.

Authority: 7 U.S.C. 71-87k.

Randall D. Jones,
Acting Administrator, Grain Inspection, Packers and Stockyards Administration.

[FR Doc. 2017-05617 Filed 3-21-17; 8:45 am]

BILLING CODE 3410-KD-P